DEPARTMENT OF AGRICULTURE

Cooperative State Research, Education, and Extension Service

Native American Outreach Program: Request for Applications and Request for Input

AGENCY: Cooperative State Research, Education, and Extension Service, USDA.

ACTION: Notice of request for applications and request for input.

SUMMARY: The Cooperative State Research, Education, and Extension Service (CSREES) requests applications for the Native American Outreach Program for fiscal year (FY) 2003 to develop and deliver outreach activities that will inform Native American farmers and ranchers, tribal governments, tribal communities, and Tribal Colleges and Universities (TCU) about the availability of, and encourage their participation in, USDA programs.

DATES: Applications must be received by close of business (COB) on August 18, 2003 (5 p.m. Eastern Daylight Time). Applications received after this deadline will not be considered for funding. Comments regarding this RFA are requested within three months from the issuance of this notice. Comments received after that date will be considered to the extent practicable.

ADDRESSES: The address for hand-delivered applications or applications submitted using an express mail or overnight courier service is: Native American Outreach Program; c/o Proposal Services Unit; Cooperative State Research, Education, and Extension Service; U.S. Department of Agriculture; Room 1420, Waterfront Centre; 800 9th Street, SW., Washington, DC 20024; Telephone: (202) 401-5048.

Applications sent via the U.S. Postal Service must be sent to the following address: Native American Outreach Program; c/o Proposal Services Unit; Cooperative State Research, Education, and Extension Service; U.S. Department of Agriculture; STOP 2245; 1400 Independence Avenue, SW., Washington, DC 20250-2245.

Written stakeholder comments should be submitted by mail to: Policy and Program Liaison Staff; Office of Extramural Programs; USDA-CSREES; STOP 2299; 1400 Independence Avenue, SW., Washington, DC 20250-2299; or via e-mail to: Rfp-Oep@csrees.usda.gov. (This e-mail address is intended only for receiving comments regarding this RFA and not requesting information or forms.) In your comments, please state that you are responding to the Native American Outreach Program RFA.

FOR FURTHER INFORMATION CONTACT: Diana Jerkins; Program Director; Cooperative State Research, Education, and Extension Service; U.S. Department of Agriculture; STOP 2243; 1400 Independence Avenue, SW., Washington, DC 20250-2243; Telephone: (202) 401-6996; Fax: (202) 401-6488; e-mail: djerkins@csrees.usda.gov.

SUPPLEMENTARY INFORMATION:

Table of Contents

Stakeholder Input

Catalog of Federal Domestic Assistance

Part I. General

A. Legislative Authority and Background.

B. Purpose, Priorities and Fund Availability.

C. Eligibility.

D. Indirect Costs.

E. Matching Requirements.

F. Funding Restrictions.

G. Types of Applications.

Part II. Program Description

A. Project Types.

B. Program Description.

Part III. Preparation of an Application

A. Program Application Materials.

B. Content of Applications.

C. Submission of Applications.

D. Acknowledgment of Applications.

Part IV. Review Process

A. General.

B. Evaluation Criteria.

C. Conflicts of Interest and Confidentiality.

Part V. Award Administration

A. General.

B. Organizational Management Information.

C. Award Document and Notice of Award.

Part VI. Additional Information

A. Access to Review Information.

B. Use of Funds; Changes.

C. Expected Program Outputs and Reporting Requirements.

D. Applicable Federal Statutes and Regulations.

E. Confidential Aspects of Applications and Awards.

F. Regulatory Information.

G. Definitions.

Stakeholder Input

CSREES is requesting comments regarding this RFA from any interested party. These comments will be considered in the development of any subsequent RFA for the program. Such comments will be used to meet the requirements of section 103(c)(2) of the Agricultural Research, Extension, and Education Reform Act of 1998 (7 U.S.C. 7613(c)(2)). This section requires the Secretary to solicit and consider input on a current RFA from persons who conduct or use agricultural research, extension and education for use in formulating future RFAs for competitive programs. Comments should be submitted as provided in the ADDRESSES and DATES portions of this announcement.

Catalog of Federal Domestic Assistance

This is a new program listed in the Catalog of Federal Domestic Assistance that is authorized under the same legislation as 10.443, Outreach and Assistance for Socially Disadvantaged Farmers and Ranchers.

Part I. General

A. Legislative Authority and Background

Section 2501(a) of the Food, Agriculture, Conservation, and Trade Act of 1990, as amended, (7 U.S.C. 2279(a)) authorizes the Secretary to make grants to eligible institutions and organizations so that they may provide outreach and technical assistance to encourage and assist socially disadvantaged farmers and ranchers to own and operate farms and ranches and to participate equitably in the full range of agricultural programs offered by the Department. This assistance shall enhance coordination of the outreach, technical assistance, and education efforts authorized under various agriculture programs and include information on and assistance with commodity, conservation, credit, rural, and business development programs, application and bidding procedures, farm and risk management, marketing and other activities essential to participation in agricultural and other programs of the Department.

Paragraph (3)(A) of section 2501(a) authorizes the Secretary to make grants to, and enter into contracts and other agreements with, an eligible entity to provide information and technical assistance under this subsection. In addition, paragraph (4)(B) of section 2501(a) authorizes any agency of the Department to participate in any grant, contract, or agreement entered into under this subsection by contributing funds, if the agency determines that the objectives of the grant will further the authorized programs of the contributing agency.

B. Purpose, Priorities and Fund Availability

The purpose of the Native American Outreach Program conducted under section 2501(a) is to develop and deliver outreach activities that will inform Native American farmers and ranchers, tribal governments, tribal communities, and Tribal Colleges and Universities (TCU) about the availability of, and encourage participation in, USDA programs. Proposals must target outreach and technical assistance efforts to Native American communities. Native American refers to a member of a federally recognized American Indian tribe, band, group, or Nation, including Alaska Indians, Aleuts, Eskimos and Alaska native villages of the United States.

Proposed projects may address one, some, or all four (4) of the objectives described below; however, priority will be given to proposals that address more than one of the objectives and/or serve to cover the broadest geographic representation for Native American communities:

1. Enhance education campaigns directed to Native American producers, tribal governments, tribal communities, and TCU for program delivery opportunities available through USDA agencies;

2. Provide additional education and knowledge about USDA supported programs and opportunities to potential participants in Native American communities;

3. Work with educational organizations to enhance capacity development in the food and agricultural sciences in order to provide Native Americans additional information regarding program delivery and career opportunities;

4. Provide tribal governments information about USDA programs for plant and animal safeguards internally and on border lands in support of homeland security.

Funded projects need not be national in scope; however, grantees will be expected to coordinate their efforts and establish appropriate linkages with other grantees, where feasible, to advance progress in accomplishing all four (4) objectives. There is no commitment by USDA to fund any particular application or to make a specific number of awards. In FY 2003, USDA anticipates that approximately $600,000 will be available to fund applications submitted in response to this RFA. Funds for this activity have been provided by six mission areas of USDA: Marketing and Regulatory Programs (MRP); Research, Education and Economics (REE); Rural Development (RD); Food Safety (FS); Farm and Foreign Agricultural Services (FFAS); and Natural Resources and Environment (NRE).

C. Eligibility

Applications may be submitted by:

1. An Indian tribe (as defined in section 4 of the Indian Self-Determination and Education Assistance Act (25 U.S.C. 450b)) or a national tribal organization that has demonstrated experience in providing agriculture education or other agriculturally related services to Native American farmers and ranchers in a region.

2. Any community-based organization, network, or coalition of community-based organizations that:

(a) Has demonstrated experience in providing agricultural education or other agriculturally related services to Native American farmers and ranchers;

(b) Has provided to the Secretary documentary evidence of work with Native American farmers and ranchers during the two-year period preceding the submission of an application for assistance under this program (documentary evidence shall include a narrative providing specific information regarding: the scope of past projects, including the number of Native American farmers and ranchers served or in the area served by the organization; activities conducted; community involvement; and copies of prior agreements, press releases, news articles, and other contemporaneous documents supporting the narrative); and

(c) does not engage in activities prohibited under section 501(c)(3) of the Internal Revenue Code of 1986 (see part III, B., 17. for certification requirement).

3. An 1890 institution or 1994 institution (as defined in section 2 of the Agricultural Research, Extension, and Education Reform Act of 1998 (7 U.S.C. 7601)), including West Virginia State College.

4. An Indian Tribal Community College or an Alaska Native Cooperative College.

5. An Hispanic-serving institution (as defined in section 1404 of the National Agricultural Research, Extension, and Teaching Policy Act of 1977 (7 U.S.C. 3103)).

6. Any other institution of higher education (as defined in section 101 of the Higher Education Act of 1965 (20 U.S.C. 1001)) that has demonstrated experience in providing agriculture education or other agriculturally related services to Native American farmers and ranchers in a region.

7. An organization or institution that received funding under the Outreach and Assistance for Socially Disadvantaged Farmers and Ranchers Competitive Grants Program (OASDFR) before January 1, 1996, but only with respect to projects that the Secretary considers are similar to projects previously carried out by the organization or institution under the OASDFR.

Award recipients may subcontract to organizations not eligible to apply provided such organizations are necessary for the conduct of the project; however, applications will be evaluated based on the qualifications of key project personnel so these participants' roles and responsibilities must be detailed.

D. Indirect Costs

Pursuant to section 1462 of the National Agricultural Research, Extension, and Teaching Policy Act of 1977, as amended (7 U.S.C. 3310), indirect costs for this program are limited to 19 percent of the total Federal funds provided under each award. Therefore, the recovery of indirect costs under this program may not exceed the lesser of the institution's official negotiated indirect cost rate or the equivalent of 19 percent of total Federal funds awarded. Another method of calculating the maximum allowable is 23.456 percent of the total direct costs. (This limitation also applies to the recovery of indirect costs by any subawardee or subcontractor, and should be reflected in the subrecipient budget.) If no rate has been negotiated, a reasonable dollar amount (equivalent to or less than 19 percent of total Federal funds requested) in lieu of indirect costs may be requested, subject to approval by USDA. This same indirect cost limitation applies to subcontracts.

E. Matching Requirements

There is no requirement for award recipients to provide matching funds under this program.

F. Funding Restrictions

Program funds may not be used for the renovation or refurbishment of research, education or extension space; the purchase or installation of fixed equipment in such space; or the planning, repair, rehabilitation, acquisition, or construction of buildings or facilities.

G. Types of Applications

All applications submitted in response to this RFA will be new applications. All applications will be reviewed competitively using the selection process and evaluation criteria described in part IV, Review Process.

Part II. Program Description

A. Project Types

In FY 2003, CSREES anticipates making one to three grants. Applicants may propose project budgets of up to $600,000. However, applicants should factor into their request the number of objectives they propose to address, recognizing that USDA will endeavor to make progress toward accomplishing all four (4) objectives (described in part I, B.) and achieving national representation with these funds. Project periods may not exceed eighteen (18) months.

B. Program Description

Proposed projects may address one, some, or all four (4) of the objectives described in part I, B.; however, priority will be given to proposals that address more than one of these objectives and/or serve to cover the broadest geographic representation for Native American communities.

The purpose of the Native American Outreach Program is to develop and deliver outreach activities that will inform Native American farmers and ranchers, tribal governments, tribal communities, and TCU about the availability of, and encourage their participation in, USDA programs. Funded projects need not be national in scope; however, grantees will be expected to coordinate their efforts and establish appropriate linkages with other grantees, where feasible, to advance progress in accomplishing all four (4) objectives.

Proposals must target outreach and technical assistance efforts to Native American communities. Native American refers to a member of a federally recognized American Indian tribe, band, group, or Nation, including Alaska Indians, Aleuts, Eskimos and Alaska native villages of the United States. Applicants must describe their plans to involve stakeholders in identifying needs and evaluating the success of the project in meeting those needs. Applicants also must submit management plans that explain how the project will be managed to ensure efficient administration of the grant.

Applications must incorporate a project evaluation component that will permit a qualitative and quantitative assessment of expected project impacts (see part III, B., 5.). Depending on project objectives, the following performance indicators could be utilized:

1. Increased number of workshops and/or training opportunities directed to increase collaboration between USDA agencies and Native Americans;

2. Increased participation among Native American people in farm, risk management and conservation programs offered by the USDA;

3. Increased number of education/outreach demonstration projects and/or an increase in the number of exchange programs between Native American educational organizations and USDA; and

4. Increased contact with Native Americans regarding emergency planning for preparedness and security for a safe food supply.

Applicants addressing project objectives 1 and/or 2 (as described in part I, B.) should provide a brief synopsis of the program(s) they are incorporating in their proposed projects. These can include, but are not limited to: The various farm and risk management programs that encourage producers with both cropping and livestock operations to adopt agriculture practices that can increase profitability; the various conservation programs and technical assistance provided by local Natural Resources Conservation Service offices that can help Native American producers better manage their natural resources through voluntary incentive-based approaches; USDA services and technical expertise designed to help producers gain an understanding of economically injurious plant and animal diseases; programs to identify and solve farm, home, and community problems through education and technical assistance; services designed to increase understanding of the role and opportunities for forest dependent rural communities; programs to improve market access opportunities for agricultural products in emerging markets; programs that aid in the development of infrastructure needs for rural communities; and the facilitation of participation in the national Agricultural Census.

Applicants addressing project objective 3 (as described in part I, B.) should provide a brief synopsis of the program(s) they are incorporating into their proposed projects. Funded activities could include, but are not limited to: Using food and agricultural sciences programs available at educational institutions to help deliver enhanced USDA program information; creating exchange programs between institutions and USDA staff to enhance capacity of education programs in the food and agricultural sciences; and providing information on career opportunities within USDA or other state, Federal, or tribal governments to graduates of such accredited programs.

Examples of outreach activities that could be funded as part of project objective 4 (as described in part I, B.) include, but are not limited to: Distributing to Native American farmers and ranchers documents that remind them of the steps they can take to secure their operations, and discussing these documents with them; updating Native American farmers and ranchers about security efforts for disaster reporting; and providing Native American farmers and ranchers with Foreign Animal Disease Awareness Training seminars.

Pertinent USDA agricultural programs include but are not limited to the following, identified by their Catalog of Federal Domestic Assistance title and number: Plant and Animal Care (10.025); Emergency Conservation Program (10.054); Production and Flexibility Payments for Contract Commodities (10.055); Forestry Incentives Program (10.064); Conservation Reserve Program (10.069); Wetlands Reserve Program (10.072); Tribal College Equity, Endowment and Research (10.221, 10.222, and 10.227); Homeland Security—Agriculture (10.304); Noninsured Assistance (10.451); Cooperative Extension Service (10.500); Emerging Markets Program (10.603); Rural Business Enterprise Grants (10.769); Soil Survey (10.903); Environmental Quality Incentives Program (10.912); Farmland Protection Program (10.913); Wildlife Habitat Incentives Program (10.914); Agricultural Statistics Reports (10.950); and Grasslands Reserve Program.

On a semi-annual basis, grantees must submit progress reports to CSREES. In addition, grantees must participate in at least two national meetings of Native Americans, to be agreed upon in consultation with CSREES, which will serve to highlight their active participation in outreach and information delivery to the Native American community. Reasonable travel expenses for at least one member of the project team to attend these meetings and for an appropriate number of personnel to attend a post-award meeting with CSREES may be requested as part of the project budget (see part III, B., 12.). Part VI, C. contains additional information about these requirements.

Part III. Preparation of an Application

A. Program Application Materials

Program application materials are available at the CSREES Funding Opportunities Web site (http://www.reeusda.gov/1700/funding/ourfund.htm). If you do not have access to the Web page or have trouble downloading material and you would like a hard copy, you may contact the Proposal Services Unit, Competitive Programs, USDA/CSREES at (202) 401-5048. When calling the Proposal Services Unit, please indicate that you are requesting the RFA and associated application forms for the Native American Outreach Program. These materials also may be requested via Internet by sending a message with your name, mailing address (not e-mail) and phone number to psb@reeusda.gov. State that you want a copy of the RFA and the associated application forms for the Native American Outreach Program.

B. Content of Applications

The applications should be prepared following the guidelines and the instructions below. Each application must contain the following elements in the order indicated:

1. General

Use the following guidelines to prepare an application. Proper preparation of applications will assist reviewers in evaluating the merits of each application in a systematic, consistent fashion:

(a) Prepare the application on only one side of the page using standard size (8½″ x 11″) white paper, one-inch margins, typed or word processed using no type smaller than 12 point font, and single or double spaced. Use an easily readable font face (e.g., Geneva, Helvetica, Times Roman).

(b) Number each page of the application sequentially, starting with the Project Description, including the budget pages, required forms, and any appendices.

(c) Staple the application in the upper left-hand corner. Do not bind. An original and fourteen (14) copies of the application must be submitted in one package, along with two (2) additional copies of the Project Summary, Form CSREES-2003, as a separate attachment. Prior to mailing, compare the application with the checklist found at the end of this document to ensure the application is complete.

(d) Include original illustrations (photographs, color prints, etc.) in all copies of the application to prevent loss of meaning through poor quality reproduction.

(e) The contents of the application should be assembled in the following order:

(1) Proposal Cover Page (Form CSREES-2002).

(2) Table of Contents.

(3) Project Summary (Form CSREES-2003).

(4) Project Description.

(5) References to Project Description.

(6) Facilities and Equipment.

(7) Appendices to Project Description.

(8) Key Personnel.

(9) Collaborative Arrangements (including letters of support).

(10) Conflict-of-Interest List (Form CSREES-2007).

(11) Budget (Form CSREES-2004).

(12) Budget Narrative.

(13) Current and Pending Support (Form CSREES-2005).

(14) Assurance Statement(s) (Form CSREES-2008).

(15) Compliance with the National Environmental Policy Act (NEPA) (Form CSREES-2006).

(16) Certification of Compliance to section 501(c)(3) of the Internal Revenue Code of 1986.

2. Proposal Cover Page (Form CSREES-2002)

Page A

Each copy of each application must contain a Proposal Cover Page, Form CSREES-2002. One copy of the application, preferably the original, must contain the pen-and-ink signature(s) of the proposing Project Directors (PDs) and the authorized organizational representative (AOR), the individual who possesses the necessary authority to commit the organization's time and other relevant resources to the project. If there are more than three co-PDs for an application, please list additional co-PDs on a separate sheet of paper (with appropriate information and signatures) and attach to the Proposal Cover Page (Form CSREES-2002). Any proposed PD or co-PD whose signature does not appear on Form CSREES-2002 or attached additional sheets will not be listed on any resulting award. Complete both signature blocks located at the bottom of the Proposal Cover Page form. Please note that Form CSREES-2002 is comprised of two parts—Page A, which is the Proposal Cover Page, and Page B, which is the Personal Data on Project Director.

Form CSREES-2002 serves as a source document for the CSREES award database; it is therefore important that it be accurately completed in its entirety, especially the e-mail addresses requested in Blocks 4.c. and 18.c. However, the following items are highlighted as having a high potential for errors or misinterpretations:

(a) Type of Performing Organization (Block 6.a. and 6.b.). For Block 6.a., a check should be placed in the appropriate box to identify the type of organization which is the legal recipient named in Block 1. Only one box should be checked. For Block 6.b., please check as many boxes that apply to the affiliation of the PD listed in Block 16.

(b) Title of Proposed Project (Block 7.). The title of the project must be brief (140-character maximum, including spaces), yet represent the major thrust of the effort being proposed. Project titles are read by a variety of nonscientific people; therefore, highly technical words or phraseology should be avoided where possible. In addition, introductory phrases such as “investigation of,” “research on,” “education for,” or “outreach that” should not be used.

(c) Program to Which You Are Applying (Block 8.). Enter “Native American Outreach Program”.

(d) Type of Request (Block 14.). Check the block for “New”.

(e) Project Director (Blocks 16.-19.). Blocks 16.-18. are used to identify the PD and Block 19. to identify co-PDs. If needed, additional co-PDs may be listed on a separate sheet of paper and attached to Form CSREES-2002, the Proposal Cover Page, with the applicable co-PD information and signatures. Listing multiple co-PDs, beyond those required for genuine collaboration, is discouraged.

(f) Other Possible Sponsors (Block 21.). List the names or acronyms of all other public or private sponsors including other agencies within USDA to which your application has been or might be sent. In the event you decide to send your application to another organization or agency at a later date, you must inform the identified CSREES program contact as soon as practicable. Submitting your application to other potential sponsors will not prejudice its review by CSREES; however, submitting the same (a duplicate) application to another CSREES program is not permissible.

Page B

Page B should be submitted only with the original signature copy of the application and should be placed as the last page of the original copy of the application. This page contains personal data on the PD(s). CSREES requests this information in order to monitor the operation of its review and awards processes. This page will not be duplicated or used during the review process. Please note that failure to submit this information will in no way affect consideration of your application.

3. Table of Contents

For consistency and ease in locating information, each application must contain a detailed Table of Contents immediately following the proposal cover page. The Table of Contents should contain page numbers for each component of the application. Page numbering should begin with the first page of the Project Description.

4. Project Summary (Form CSREES-2003)

The application must contain a Project Summary, Form CSREES-2003. The summary should be approximately 250 words, contained within the box, placed immediately after the Table of Contents, and not numbered. The names and affiliated organizations of all PDs and co-PDs should be listed on this form, in addition to the title of the project. The summary should be a self-contained, specific description of the activity to be undertaken and should focus on: Overall project goal(s) and supporting objectives; plans to accomplish project goal(s); and relevance of the project to the purpose of the Native American Outreach Program. The importance of a concise, informative Project Summary cannot be overemphasized. If there are more than three co-PDs for an application, please list additional co-PDs on a separate sheet of paper (with appropriate information) and attach to the Project Summary (Form CSREES-2003).

5. Project Description

Please Note: The Project Description section may not exceed a total of eighteen (18) single- or double-spaced pages including figures and tables. This maximum has been established to ensure fair and equitable competition. The Project Description must include all of the following:

(a) Introduction—Clearly identify which of the four (4) objectives (see part I, B.) the proposed project seeks to address. Describe the goals, target audience and geographic area to be served. Include preliminary data/information pertinent to the proposed project.

(b) Approach—Describe the proposed activities, methods to achieve goals and expected outcomes. Justify the rationale for choosing this project approach. Specify plans for partnerships, collaborative efforts, and/or linkages to other programs and projects, where appropriate, and explain how they will contribute to the success of the project. Describe plans to involve stakeholders in identifying needs and evaluating the success of the project in meeting those needs. Include a timeline with expected completion dates for project milestones. Discuss potential pitfalls that may be encountered and limitations to the proposed approach.

(c) Evaluation and Monitoring of Project—Provide a plan for assessing and evaluating the accomplishment of stated goals during the project period. Describe ways to determine the effectiveness of the approach during and upon termination of the project. If a project is complex and requires administrative oversight, include plans for evaluating and monitoring the administration of the project, as well. This description should include how funds and resources will be allocated so that collaborative participation of all parties is ensured throughout the duration of the project.

(d) Management Plan—Explain how the project will be managed to ensure efficient administration of the grant, including the facilitation of planning, communication, and report preparation. Management of the project will be judged on the adequacy of: Overall management of the budget, including budget and collaboration with co-PDs; plans for reporting, assessing and interpreting the results; and coordination of dissemination of the information over the duration of the project.

6. References to Project Description

All references to works cited should be complete, including titles and all co-authors, and should conform to an acceptable journal format. References are not considered in the page limitation for the Project Description.

7. Facilities and Equipment

Facilities and major items of equipment that are available for use or assignment to the proposed project during the requested period of support should be described. In addition, items of nonexpendable equipment necessary to conduct and successfully conclude the proposed project should be listed (including dollar amounts), and, if funds are requested for their acquisition, justified on a separate page and attached to the budget.

8. Appendices to Project Description

Appendices to the Project Description are allowed if they are directly germane to the proposed project. The addition of appendices should not be used to circumvent page limitations.

9. Key Personnel

The following should be included, as applicable:

(a) The roles and responsibilities of each PD and/or collaborator should be clearly described; and

(b) The vitae of the PD and each co-PD, senior associate, and other professional personnel. This section should include vitae of all key persons who are expected to work on the project, whether or not CSREES funds are sought for their support. The vitae should be limited to two (2) pages each in length, excluding publications listings. The vitae should include a presentation of academic and research credentials, as applicable (e.g., earned degrees, teaching experience, employment history, professional activities, honors and awards, and grants received). A chronological list of all publications in refereed journals during the past four (4) years, including those in press, must be provided for each project member for whom a curriculum vita is provided. Also list only those non-refereed technical publications that have relevance to the proposed project. All authors should be listed in the same order as they appear on each paper cited, along with the title and complete reference as these usually appear in journals.

10. Collaborative Arrangements

If it will be necessary to enter into formal consulting or collaborative arrangements with others, such arrangements should be fully explained and justified. If the consultant(s) or collaborator(s) are known at the time of application, a vitae or resume should be provided. In addition, evidence (e.g., letters of support) should be provided that the collaborators involved have agreed to render these services. The applicant also will be required to provide additional information on consultants and collaborators in the budget portion of the application. See instructions in the application forms for completing Form CSREES-2004, Budget.

11. Conflict-of-Interest List (Form CSREES-2007)

A Conflict-of-Interest List, Form CSREES-2007, must be provided for all individuals who have submitted a vitae in response to item 9.(b) of this part. Each Form CSREES-2007 must list alphabetically, by the last names, the full names of the individuals in the following categories: (a) All co-authors on publications within the past four years, including pending publications and submissions; (b) all collaborators on projects within the past four years, including current and planned collaborations; (c) all thesis or postdoctoral advisees/advisors; and (d) all persons in your field with whom you have had a consulting or financial arrangement within the past four years, who stand to gain by seeing the project funded. This form is necessary to assist program staff in excluding from application review those individuals who have conflicts of interest with the personnel in the application. The program contact must be informed of any additional conflicts of interest that arise after the application is submitted.

12. Budget

(a) Budget Form (Form CSREES-2004)

Prepare the Budget, Form CSREES-2004, in accordance with instructions provided with the application forms. A budget form is required for each year of requested support. In addition, a cumulative budget is required detailing the requested total support for the overall project period. Reasonable travel expenses for at least one member of the project team to attend two national meetings of Native Americans (to be agreed upon in consultation with CSREES) and for an appropriate number of personnel to attend a post-award meeting with CSREES may be requested as part of the project budget. The budget form may be reproduced as needed by applicants. Funds may be requested under any of the categories listed on the form, provided that the item or service for which support is requested is allowable under the authorizing legislation, the applicable statutes, regulations, and Federal cost principles, and these program guidelines, and can be justified as necessary for the successful conduct of the proposed project. Applicants also must include a budget narrative to justify their budget requests (see section (b) below). See part I, D. for indirect cost information.

(b) Budget Narrative

All budget categories, with the exception of Indirect Costs, for which support is requested, must be individually listed (with costs) in the same order as the budget and justified on a separate sheet of paper and placed immediately behind the Budget form.

13. Current and Pending Support (Form CSREES-2005)

All applications must contain Form CSREES-2005 listing other current public or private support (including in-house support) to which personnel (i.e., individuals submitting a vitae in response to item 9.(b) of this part) identified in the application have committed portions of their time, whether or not salary support for person(s) involved is included in the budget. Please follow the instructions provided on this form. Concurrent submission of identical or similar applications to the possible sponsors will not prejudice application review or evaluation by the CSREES. However, an application that duplicates or overlaps substantially with an application already reviewed and funded (or to be funded) by another organization or agency will not be funded under this program. Please note that the project being proposed should be included in the pending section of the form.

14. Assurance Statement(s) (Form CSREES-2008)

A number of situations encountered in the conduct of projects require special assurances, supporting documentation, etc., before funding can be approved for the project. In addition to any other situation that may exist with regard to a particular project, applications involving any of the following elements must comply with the additional requirements as applicable.

(a) Recombinant DNA or RNA Research

As stated in 7 CFR 3015.205 (b)(3), all key personnel identified in the application and all endorsing officials of the proposing organization are required to comply with the guidelines established by the National Institutes of Health entitled, “Guidelines for Research Involving Recombinant DNA Molecules,” as revised. If your project proposes to use recombinant DNA or RNA techniques, you must so indicate by checking the “yes” box in Block 20. of Form CSREES-2002 (the Proposal Cover Page) and by completing Section A of Form CSREES-2008. For applicable applications recommended for funding, Institutional Biosafety Committee approval is required before CSREES funds will be released. Please refer to the application forms for further instructions.

(b) Animal Care

Responsibility for the humane care and treatment of live vertebrate animals used in any grant project supported with funds provided by CSREES rests with the performing organization. Where a project involves the use of living vertebrate animals for experimental purposes, all key personnel identified in an application and all endorsing officials of the proposing organization are required to comply with the applicable provisions of the Animal Welfare Act of 1966, as amended (7 U.S.C. 2131 et seq.), and the regulations promulgated thereunder by the Secretary in 9 CFR parts 1, 2, 3, and 4 pertaining to the care, handling, and treatment of these animals. If your project will involve these animals, you should check “yes” in Block 20. of Form CSREES-2002 and complete section B of Form CSREES-2008. In the event a project involving the use of live vertebrate animals results in an award, funds will be released only after the Institutional Animal Care and Use Committee has approved the project. Please refer to the application forms for further instructions.

(c) Protection of Human Subjects

Responsibility for safeguarding the rights and welfare of human subjects used in any grant project supported with funds provided by CSREES rests with the performing organization. Guidance on this issue is contained in the National Research Act, Public Law 93-348, as amended, and implementing regulations promulgated by the Department under 7 CFR part 1c. If you propose to use human subjects in your project, you should check the “yes” box in Block 20. of Form CSREES-2002 and complete Section C of Form CSREES-2008. In the event a project involving human subjects at risk is recommended for award, funds will be released only after the Institutional Review Board (IRB) has approved the research plan and CSREES has accepted documentation of the IRB approval. Please refer to the application forms for additional instructions.

15. Certifications

Note that by signing Form CSREES-2002 the applicant is providing the certifications required by 7 CFR part 3017, regarding Debarment and Suspension and Drug-Free Workplace, and 7 CFR part 3018, regarding Lobbying. The certification forms are included in the application package for informational purposes only. These forms should not be submitted with the application since by signing Form CSREES-2002 your organization is providing the required certifications. If the project will involve a subcontractor or consultant, the subcontractor/consultant should submit a Form AD-1048, Certification Regarding Debarment, Suspension, Ineligibility and Voluntary Exclusion—Lower Tier Covered Transactions, to the grantee organization for retention in their records. This form should not be submitted to USDA.

16. Compliance With the National Environmental Policy Act (NEPA) (Form CSREES-2006)

As outlined in 7 CFR part 3407 (the CSREES regulations implementing NEPA), the environmental data for any proposed project is to be provided to CSREES so that CSREES may determine whether any further action is needed. In some cases, however, the preparation of environmental data may not be required. Certain categories of actions are excluded from the requirements of NEPA.

In order for CSREES to determine whether any further action is needed with respect to NEPA, pertinent information regarding the possible environmental impacts of a particular project is necessary; therefore, Form CSREES-2006, “NEPA Exclusions Form,” must be included in the application indicating whether the applicant is of the opinion that the project falls within a categorical exclusion and the reasons therefore. If it is the applicant's opinion that the proposed project falls within the categorical exclusions, the specific exclusion(s) must be identified.

Even though a project may fall within the categorical exclusions, CSREES may determine that an Environmental Assessment or an Environmental Impact Statement is necessary for an activity, if substantial controversy on environmental grounds exists or if other extraordinary conditions or circumstances are present which may cause such activity to have a significant environmental effect.

17. Certification of Compliance to Section 501(c)(3) of the Internal Revenue Code of 1986

Any community-based organization, network, or coalition of community-based organizations that is not recognized by the Internal Revenue Service as a section 501(c)(3) organization must include, on a separate sheet of paper, a statement that they have not, and will not engage in any of the prohibited activities contained in section 501(c)(3) of the Internal Revenue Code of 1986.

C. Submission of Applications

1. When To Submit (Deadline Date)

Applications must be received by COB on August 18, 2003 (5 p.m. Eastern Daylight Time). Applications received after this deadline will not be considered for funding.

2. What To Submit

An original and fourteen (14) copies of the application must be submitted. In addition, submit two (2) copies of the application's Project Summary, Form CSREES-2003. All copies of the application must be submitted in one package.

3. Where To Submit

Applicants are strongly encouraged to submit completed applications via overnight mail or delivery service to ensure timely receipt by the USDA. The address for hand-delivered applications or applications submitted using an express mail or overnight courier service is:

Native American Outreach Program, c/o Proposal Services Unit, Cooperative State Research, Education, and Extension Service, U.S. Department of Agriculture, Room 1420, Waterfront Centre, 800 9th Street, SW, Washington, DC 20024, Telephone: (202) 401-5048.

Applications sent via the U.S. Postal Service must be sent to the following address:

Native American Outreach Program, c/o Proposal Services Unit, Cooperative State Research, Education, and Extension Service, U.S. Department of Agriculture, STOP 2245, 1400 Independence Avenue, SW, Washington, DC 20250-2245.

D. Acknowledgment of Applications

The receipt of all applications will be acknowledged by e-mail. Therefore, applicants are strongly encouraged to provide accurate e-mail addresses, where designated, on the Form CSREES-2002. If the applicant's e-mail address is not indicated, CSREES will acknowledge receipt of the application by letter.

Applicants who do not receive an acknowledgment within 60 days of the submission deadline should contact the program contact. Once the application has been assigned a proposal number, that number should be cited on all future correspondence.

Part IV. Review Process

A. General

Each application will be evaluated in a two-part process. First, each application will be screened to ensure that it meets the administrative requirements as set forth in this RFA. Second, a review panel will technically evaluate applications that meet these requirements.

Reviewers will be selected based upon their training and experience in relevant scientific, programmatic, or education fields, taking into account the following factors: (a) The level of relevant formal scientific, technical education, or extension experience of the individual, as well as the extent to which an individual is engaged in relevant programmatic activities (i.e., knowledge of programs related to outreach activities in field locations, especially for underserved audiences); (b) the need to include as reviewers experts from various areas of specialization within relevant scientific, education, or extension fields; (c) the need to include as reviewers others who can assess relevance of the applications to targeted audiences and to program needs; (d) the need to include as reviewers experts from a variety of Federal agencies and geographic locations; (e) the need to maintain a balanced composition of reviewers with regard to minority and female representation and an equitable age distribution; and (f) the need to include reviewers who can judge the effective usefulness to producers and the general public of each application.

B. Evaluation Criteria

Priority will be given to applications that address more than one of the objectives in part I, B. and/or serve to cover the broadest geographic representation for Native American communities. The evaluation criteria and weights, below, will be used in reviewing applications submitted in response to this RFA:

1. Degree to which proposed project addresses the objectives of the Native American Outreach Program (Weight—20);

2. Likelihood that goals of project can be achieved through the proposed activities during the project period (Weight—20);

3. Quality of plan to involve stakeholders in identifying needs and evaluating success of proposed project (Weight—15);

4. Soundness of plan for assessing and evaluating the accomplishment of project goals and plan for dissemination of results (Weight—15);

5. Qualifications of proposed project personnel and adequacy of facilities (Weight—10);

6. Adequacy of management plan (Weight—10); and

7. Quality of plan to involve partners/collaborators and link to other programs/projects (Weight—10). (Applicants proposing to address all four (4) objectives independently will not be penalized.)

C. Conflicts of Interest and Confidentiality

During the peer evaluation process, extreme care will be taken to prevent any actual or perceived conflicts of interest that may impact review or evaluation. For the purpose of determining conflicts of interest, the academic and administrative autonomy of an academic institution shall be determined by reference to the current version of the Higher Education Directory, published by Higher Education Publications, Inc., 6400 Arlington Boulevard, Suite 648, Falls Church, VA 22042. Phone: (703) 532-2300. Web site: http://www.hepinc.com.

Names of submitting institutions and individuals, as well as application content and peer evaluations, will be kept confidential, except to those involved in the review process, to the extent permitted by law. In addition, the identities of peer reviewers will remain confidential throughout the entire review process. Therefore, the names of the reviewers will not be released to applicants. At the end of the fiscal year, names of reviewers will be made available in such a way that the reviewers cannot be identified with the review of any particular application.

Part V. Award Administration

A. General

Within the limit of funds available for such purpose, the awarding official of CSREES shall make awards to those responsible, eligible applicants whose applications are judged most meritorious under the procedures set forth in this RFA. The date specified by the awarding official of CSREES as the effective date of the grant shall be no later than September 30 of the Federal fiscal year in which the project is approved for support and funds are appropriated for such purpose, unless otherwise permitted by law. It should be noted that the project need not be initiated on the award effective date, but as soon thereafter as practical so that project goals may be attained within the funded project period. All funds issued by CSREES under this RFA shall be expended solely for the purpose for which the funds are awarded in accordance with the approved application and budget, the regulations, the terms and conditions of the award, the applicable Federal cost principles, and the Department's assistance regulations (parts 3015, 3016 and 3019 of 7 CFR). The total period for which a grant is awarded (including all funded and no-cost time extensions) may not exceed five years.

B. Organizational Management Information

Specific management information relating to an applicant shall be submitted on a one-time basis as part of the responsibility determination prior to the award of a grant identified under this RFA, if such information has not been provided previously under this CSREES program. CSREES will provide copies of forms recommended for use in fulfilling these requirements as part of the preaward process. Although an applicant may be eligible based on its status as one of these entities, there are factors which may exclude an applicant from receiving Federal financial and nonfinancial assistance and benefits under this program (e.g., debarment or suspension of an individual involved or a determination that an applicant is not responsible based on submitted organizational management information).

C. Award Document and Notice of Award

The award document will provide pertinent instructions and information including, at a minimum, the following:

1. Legal name and address of performing organization or institution to whom the Administrator has issued an award under the terms of this request for applications;

2. Title of project;

3. Name(s) and institution(s) of PDs chosen to direct and control approved activities;

4. Identifying award number assigned by the Department;

5. Project period, specifying the amount of time the Department intends to support the project without requiring recompetition for funds;

6. Total amount of Departmental financial assistance approved by the Administrator during the project period;

7. Legal authority(ies) under which the award is issued;

8. Appropriate Catalog of Federal Domestic Assistance (CFDA) number;

9. Approved budget plan for categorizing allocable project funds to accomplish the stated purpose of the award; and

10. Other information or provisions deemed necessary by CSREES to carry out the awarding activities or to accomplish the purpose of a particular award.

Part VI. Additional Information

A. Access To Review Information

Copies of reviews, not including the identity of reviewers, and a summary of the panel comments will be sent to the applicant PD after the review process has been completed.

B. Use of Funds; Changes

1. Delegation of Fiscal Responsibility

Unless the terms and conditions of the award state otherwise, the awardee may not in whole or in part delegate or transfer to another person, institution, or organization the responsibility for use or expenditure of award funds.

2. Changes in Project Plans

(a) The permissible changes by the awardee, PD(s), or other key project personnel in the approved project shall be limited to changes in methodology, techniques, or other similar aspects of the project to expedite achievement of the project's approved goals. If the awardee or the PD(s) is uncertain as to whether a change complies with this provision, the question must be referred to the Authorized Departmental Officer (ADO) for a final determination. The ADO is the signatory of the award document, not the program contact.

(b) Changes in approved goals or objectives shall be requested by the awardee and approved in writing by the ADO prior to effecting such changes. In no event shall requests for such changes be approved which are outside the scope of the original approved project.

(c) Changes in approved project leadership or the replacement or reassignment of other key project personnel shall be requested by the awardee and approved in writing by the ADO prior to effecting such changes.

(d) Transfers of actual performance of the substantive programmatic work in whole or in part and provisions for payment of funds, whether or not Federal funds are involved, shall be requested by the awardee and approved in writing by the ADO prior to effecting such transfers, unless prescribed otherwise in the terms and conditions of the award.

(e) Changes in Project Period: The project period may be extended by CSREES without additional financial support, for such additional period(s) as the ADO determines may be necessary to complete or fulfill the purposes of an approved project, but in no case shall the total project period exceed five years. Any extension of time shall be conditioned upon prior request by the awardee and approval in writing by the ADO, unless prescribed otherwise in the terms and conditions of award.

(f) Changes in Approved Budget: Changes in an approved budget must be requested by the awardee and approved in writing by the ADO prior to instituting such changes if the revision will involve transfers or expenditures of amounts requiring prior approval as set forth in the applicable Federal cost principles, Departmental regulations, or award.

C. Expected Program Outputs and Reporting Requirements

Grantees are required to submit semi-annual and summary progress reports via CSREES' Current Research Information System (CRIS). CRIS is an electronic, Web-based inventory system that facilitates both grantee submissions of project outcomes and public access to information on Federally-funded projects.

Grantees will be expected to attend a post-award meeting with CSREES in order to facilitate project direction, and discuss relevant linkages and/or allied projects that would benefit the outreach effort through common support. Reasonable travel expenses for an appropriate number of personnel to attend this post-award meeting may be requested as part of the project budget (see part III, B., 12.).

Grantees also must participate in at least two national meetings of Native Americans, to be agreed upon in consultation with CSREES. Through their participation in these meetings, grantees can demonstrate to CSREES their commitment to, and skill in, providing outreach and technical assistance to Native American communities. Reasonable travel expenses for at least one member of the project team to attend these meetings may be requested as part of the project budget (see part III, B., 12.).

D. Applicable Federal Statutes and Regulations

Several Federal statutes and regulations apply to grant applications considered for review and to project grants awarded under this program. These include, but are not limited to:

7 CFR part 1, subpart A—USDA implementation of the Freedom of Information Act.

7 CFR part 3—USDA implementation of OMB Circular No. A-129 regarding debt collection.

7 CFR part 15, subpart A—USDA implementation of Title VI of the Civil Rights Act of 1964, as amended.

7 CFR part 3015—USDA Uniform Federal Assistance Regulations, implementing OMB directives (i.e., OMB Circular Nos. A-21 and A-122) and incorporating provisions of 31 U.S.C. 6301-6308 (formerly the Federal Grant and Cooperative Agreement Act of 1977, Public Law 95-224), as well as general policy requirements applicable to recipients of Departmental financial assistance.

7 CFR part 3017—USDA implementation of Governmentwide Debarment and Suspension (Nonprocurement) and Governmentwide Requirements for Drug-Free Workplace (Grants).

7 CFR part 3018—USDA implementation of Restrictions on Lobbying. Imposes prohibitions and requirements for disclosure and certification related to lobbying on recipients of Federal contracts, grants, cooperative agreements, and loans.

7 CFR part 3019—USDA implementation of OMB Circular A-110, Uniform Administrative Requirements for Grants and Other Agreements With Institutions of Higher Education, Hospitals, and Other Nonprofit Organizations.

7 CFR part 3052—USDA implementation of OMB Circular No. A-133, Audits of States, Local Governments, and Non-profit Organizations.

7 CFR part 3407—CSREES procedures to implement the National Environmental Policy Act of 1969, as amended.

29 U.S.C. 794 (sec. 504, Rehabilitation Act of 1973) and 7 CFR part 15b (USDA implementation of statute)— prohibiting discrimination based upon physical or mental handicap in Federally assisted programs.

35 U.S.C. 200 et seq.—Bayh-Dole Act, controlling allocation of rights to inventions made by employees of small business firms and domestic nonprofit organizations, including universities, in Federally assisted programs (implementing regulations are contained in 37 CFR part 401).

E. Confidential Aspects of Applications and Awards

When an application results in an award, it becomes a part of the record of CSREES transactions, available to the public upon specific request. Information that the Secretary determines to be of a confidential, privileged, or proprietary nature will be held in confidence to the extent permitted by law. Therefore, any information that the applicant wishes to have considered as confidential, privileged, or proprietary should be clearly marked within the application. The original copy of an application that does not result in an award will be retained by the Agency for a period of one year. Other copies will be destroyed. Such an application will be released only with the consent of the applicant or to the extent required by law. An application may be withdrawn at any time prior to the final action thereon.

F. Regulatory Information

For the reasons set forth in the final Rule-related Notice to 7 CFR part 3015, subpart V (48 FR 29114, June 24, 1983), this program is excluded from the scope of the Executive Order 12372 which requires intergovernmental consultation with State and local officials. Under the provisions of the Paperwork Reduction Act of 1995 (44 U.S.C. chapter 35), the collection of information requirements contained in this Notice have been approved under OMB Document No. 0524-0039.

G. Definitions

For the purpose of this program, the following definitions are applicable:

Administrator means the Administrator of the CSREES and any other officer or employee of the Department to whom the authority involved is delegated.

Authorized departmental officer means the Secretary or any employee of the Department who has the authority to issue or modify grant instruments on behalf of the Secretary.

Authorized organizational representative means the president, director, or chief executive officer or other designated official of the applicant organization who has the authority to commit the resources of the organization.

Department or USDA means the United States Department of Agriculture.

Grant means the award by the Secretary of funds to an eligible organization or individual to assist in meeting the costs of conducting, for the benefit of the public, an identified project which is intended and designed to accomplish the purpose of the program as identified in these guidelines.

Grantee means an organization designated in the award document as the responsible legal entity to which a grant is awarded.

Matching means that portion of allowable project costs not borne by the Federal Government, including the value of in-kind contributions.

Prior approval means written approval evidencing prior consent by an authorized departmental officer as defined above.

Project means the particular activity within the scope of the program supported by a grant award.

Project director means the single individual designated in the grant application and approved by the Secretary who is responsible for the direction and management of the project.

Project period means the period, as stated in the award document, during which Federal sponsorship begins and ends.

Secretary means the Secretary of Agriculture and any other officer or employee of the Department to whom the authority involved is delegated.

Done at Washington, DC, this 11th day of July 2003.
Colien Hefferan,
Administrator, Cooperative State Research, Education, and Extension Service.

[FR Doc. 03-18069 Filed 7-16-03; 8:45 am]

BILLING CODE 3410-22-P